ENVIRONMENTAL PROTECTION AGENCY

40 CFR Part 180

[EPA-HQ-OPP-2015-0032; FRL-9939-32]

Withdrawal of Pesticide Petitions for Establishment or Modification of Pesticide Chemical Tolerances or Tolerance Exemptions

AGENCY: Environmental Protection Agency (EPA).

ACTION: Notice of withdrawal of pesticide petitions.

SUMMARY: This document announces the withdrawal of pesticide petitions requesting the establishment or modification of tolerances or tolerance exemptions for residues of pesticide chemicals in or on various commodities. The petitions were either withdrawn voluntarily by the petitioners or by the Agency.

DATES: The pesticide petitions in this document are withdrawn as of January 19, 2016.

FOR FURTHER INFORMATION CONTACT: Susan Lewis, Registration Division (RD) (7505P), Office of Pesticide Programs, Environmental Protection Agency, 1200 Pennsylvania Ave. NW., Washington, DC 20460-0001; main telephone number: (703) 305-7090; email address: RDFRNotices@epa.gov. The mailing address for each contact person is: Office of Pesticide Programs, Environmental Protection Agency, 1200 Pennsylvania Ave. NW., Washington, DC 20460-0001.

SUPPLEMENTARY INFORMATION:

I. General Information

A. Does this action apply to me?

Although this action only applies to the petitioners in question, it is directed to the public in general. Since various individuals or entities may be interested, the Agency has not attempted to describe all the specific entities that may be interested in this action. If you have any questions regarding this action, please consult the person listed at the end of the withdrawal summary for the pesticide petition of interest.

B. How can I get copies of this document and other related information?

The docket for this action, identified by docket identification (ID) number EPA-HQ-OPP-2014-0008, is available at http://www.regulations.gov or at the OPP Docket in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the agency taking?

EPA is announcing the withdrawal of pesticide petitions received under section 408 of the Federal Food, Drug, and Cosmetic Act (FFDCA), 21 U.S.C. 346a, requesting the establishment or modification of tolerances or tolerance exemptions in 40 CFR part 180 for residues of pesticide chemicals in or on various food commodities.

Pursuant to 40 CFR 180.7(f), a summary of each of the petitions covered by this document, prepared by the petitioner, was included in a docket EPA created for each rulemaking. The docket for each of the petitions is available online at http://www.regulations.gov.

Withdrawals by Petitioners

1. PP 0E7820 (spirodiclofen). EPA issued a notice in the Federal Register of February 4, 2010 (76 FR 17374) (EPA-HQ-OPP-2011-0087), which announced the filing of a pesticide petition (PP 0E7820) by Interregional Research Project Number 4 (IR-4), 500 College Road East, Suite 201 W, Princeton, NJ 08540. The petition proposed to establish tolerances in 40 CFR part 180 for residues of the insecticide spirodiclofen, 3-(2,4-dichlorophenyl)-2-oxo-1-oxaspiro[4,5]dec-3-en-4-yl 2,2-dimethylbutanoate, in or on sugar apple, cherimoya, atemoya, custard apple, ilama, soursop, biriba, guava, feijoa, jaboticaba, wax jambu, starfruit, passionfruit, persimmon and acerola at 0.45 ppm; and lychee, longan, Spanish lime, rambutan and pulasan at 3.5 ppm. On April 17, 2014, IR-4 notified EPA that it was withdrawing this petition.

2. PP 9E7632 (spirodiclofen). EPA issued a notice in the Federal Register of February 4, 2010 (75 FR 5790) (EPA-HQ-OPP-2009-0861), which announced the filing of a pesticide petition (PP 9E7632) by Interregional Research Project No. 4 (IR-4), 500 College Road East, Suite 201 W, Princeton, NJ 08540. The petition proposed to amend the tolerances in 40 CFR 180.608 by revising the tolerance expression under paragraphs (a)(1) and (a)(2) to read as follows: (a)(1). Tolerances are established for residues of the insecticide spirodiclofen, including its metabolites and degradates. Compliance with the tolerance levels specified is to be determined by measuring only spirodiclofen (3-(2,4-dichlorophenyl)-2-oxo-1-oxaspiro[4,5]dec-3-en-4-yl 2,2-dimethylbutanoate). (a)(2). Tolerances are established for residues of the insecticide spirodiclofen, including its metabolites and degradates. Compliance with the tolerance levels specified is to be determined by measuring only the sum of spirodiclofen (3-(2,4-dichlorophenyl)-2-oxo-1-oxaspiro[4,5]dec-3-en-4-yl 2,2-dimethylbutanoate) and its metabolite 3-(2,4-dichlorophenyl)-4-hydroxy-1-oxaspiro[4,5]dec-3-en-2-one, calculated as the stoichiometric equivalent of spirodiclofen. On April 17, 2014, IR-4 notified EPA that it was withdrawing this petition.

3. PP 4G8247 (flutriafol). EPA issued a notice in the Federal Register of October 24, 2014 (79 FR 63594) (EPA-HQ-OPP-2014-0379), which announced the filing of a pesticide petition (PP 4G8247) by Cheminova, Inc., 1600 Wilson Blvd., Suite 700, Arlington, VA 22209-2510. The petition proposed to establish tolerances in the 40 CFR part 180 for residues of the fungicide flutriafol, (±)-α-(2-fluorophenyl)-α-(4-fluorophenyl)-1 H-1,2,4-triazole-1-ethanol, including its metabolites and degradates, in or on corn, sweet, forage at 5 parts per million (ppm); corn, sweet, kernel plus cob with husks removed at 0.01 ppm; and corn, sweet, stover at 15 ppm. On February 25, 2015, Cheminova, Inc., notified EPA that it was withdrawing this petition.

4. PP 1E7923 (clothianidin). EPA issued a notice in the Federal Register of December 8, 2011 (76 FR 76674) (EPA-HQ-OPP-2011-0860), which announced the filing of a pesticide petition (PP 1E7923) by Interregional Research Project Number 4 (IR-4), IR-4 Project Headquarters, Rutgers, The State University of New Jersey, 500 College Road East, Suite 201 W, Princeton, NJ 08450. The petition proposed to establish tolerances in 40 CFR part 180 for residues of the insecticide clothianidin, (E)-1-(2-chloro-1,3-thiazol-5-ylmethyl)-3-methyl-2-nitroguanidine, in or on strawberry at 1.4 parts per million (ppm); citrus fruit group 10-10 at 0.5 ppm; citrus, dried pulp at 1 ppm; and pistachio at 0.01 ppm. On April 7, 2015, IR-4 notified EPA that it was withdrawing this petition.

5. PP 3E8226 (gamma-cyhalothrin). EPA issued a notice in the Federal Register of May 23, 2014 (79 FR 29729) (EPA-HQ-OPP-2014-0207), which announced the filing of a pesticide petition (PP 3E8226) by Cheminova A/S, 1600 Wilson Blvd., Suite 700, Arlington, VA 22209-2510. The petition proposed to establish import tolerances in the 40 CFR part 180 for residues of the insecticide gamma-cyhalothrin, in or on fruit, citrus, group 10-10 at 0.07 ppm; citrus, dried pulp at 0.2 ppm; and citrus, oil at 3.5 ppm. On April 8, 2015, Cheminova A/S notified EPA that it was withdrawing this petition.

6. PP 3E8183 (1,3-dichloropropene). EPA issued a notice in the Federal Register of September 12, 2013 (78 FR 56185) (EPA-HQ-OPP-2013-0496), which announced the filing of a pesticide petition (PP 3E8183) by Interregional Research ProjectNumber 4 (IR-4), 500 College Road East, Suite 201 W, Princeton, NJ 08540. The petition proposed to establish a tolerance in 40 CFR part 180 for the combined residues of the fungicide, cis- and trans-1,3-dichloropropene, including its metabolites and degradates, in or on pineapple at 0.02 ppm. It is proposed that compliance with the tolerance levels specified in § 180.636 is to be determined by measuring cis- and trans-1,3-dichloropropene and its metabolites cis- and trans-3-chloroacrylic acid, and cis-and trans-3-chloroallylalcohol, in or on the commodity. The proposed tolerances are to support post plant use in pineapple, similar to the established drip irrigation use of 1,3-dichloropropene in grapes. On May 20, 2015, IR-4 notified EPA that it was withdrawing this petition.

7. PP 2F8008 (clothianidin). EPA issued a notice in the Federal Register of September 28, 2012 (77 FR 59578) (EPA-HQ-OPP-2010-0217), which announced the filing of a pesticide petition (PP 2F8008) by Valent U.S.A. Corporation, P.O. Box 8025, Walnut Creek, CA 94596. The petition requested to establish tolerances in the 40 CFR part 180 for residues of the insecticide clothianidin, (E)-1-(2-chloro-1,3-thiazol-5-ylmethyl)-3-methyl-2-nitroguanidine, in or on fruiting, vegetables, group 8-10, except pepper/eggplant subgroup 8-10B at 0.2 ppm; and pepper/eggplant subgroup 8-10B at 0.7 ppm. The petition also requested to amend the tolerance in 40 CFR 180.586 (a) by deleting the tolerance for residues of the insecticide clothianidin, (E)-1-(2-chloro-1,3-thiazol-5-ylmethyl)-3-methyl-2-nitroguanidine, in or on the vegetable, fruiting group 8 at 0.2 ppm, upon approval of fruiting, vegetables, group 8-10, except pepper/eggplant subgroup 8-10B at 0.2 ppm under “New Tolerance” for PP 2F8008; and replacing the tolerance for residues of the insecticide clothianidin, (E)-1-(2-chloro-1,3-thiazol-5-ylmethyl)-3-methyl-2-nitroguanidine, in or on fruit, pome at 1.0 ppm with fruit, pome group (11-10) at 1.0 ppm due to the expansion of crop groups. On June 24, 2015, Valent U.S.A. Corporation notified EPA that it was withdrawing this petition.

8. PP 4E8311 (flubendiamide). EPA issued a notice in the Federal Register of March 4, 2015 (80 FR 11611) (EPA-HQ-OPP-2014-0784), which announced the filing of a pesticide petition (PP 4E8311) by Interregional Research Project Number 4 (IR-4), 500 College Road East, Suite 201 W, Princeton, NJ 08540. The petition proposed to establish a tolerance in 40 CFR part 180 for residues of the insecticide, flubendiamide, (N2-1,1-dimethyl-2-(methylsulfonyl)ethyl-3-iodo-N1-2-methyl-4-1,2,2,2-tetrafluoro-1-(trifluoromethyl)ethylphenyl-1,2-benzenedicarboxamide) in or on the following: Bushberry subgroup 13-07B at 8.0 ppm; vegetable, fruiting group 8-10 at 0.60 ppm; fruit, pome, group 11-10 at 1.5 ppm; fruit, stone, group 12-12 at 1.6 ppm; nut, tree, group 14-12 at 0.06 ppm; and sunflower, subgroup 20B at 5.0 ppm. Upon the approval of the aforementioned tolerances, the petitioner requests to remove the established tolerances for flubendiamide in or on fruit, pome, group 11 at 1.5 ppm; fruit, stone, group 12 at 1.6 ppm; nut, tree, group 14 at 0.06 ppm; safflower, seed at 5.0 ppm; and sunflower, seed at 5.0 ppm. On September 3, 2015, IR-4 notified EPA that it was withdrawing this petition.

List of Subjects in 40 CFR Part 180

Environmental protection, Agricultural commodities, Feed additives, Food additives, Pesticides and pests, Reporting and recordkeeping requirements.

Dated: December 23, 2015.
Susan Lewis,
Director, Registration Division, Office of Pesticide Programs.

[FR Doc. 2016-00431 Filed 1-15-16; 8:45 am]

BILLING CODE 6560-50-P